DEPARTMENT OF ENERGY

Federal Energy Regulatory Commission

Combined Notice of Filings

Take notice that the Commission has received the following Natural Gas Pipeline Rate and Refund Report filings:

Filings Instituting Proceedings

Docket Numbers: RP13-415-000.

Applicants: Texas Eastern Transmission, LP.

Description: Texas Eastern Transmission, LP submits tariff filing per 154.403: EPC FEB 2013 FILING to be effective 2/1/2013.

Filed Date: 12/27/12.

Accession Number: 20121227-5048.

Comments Due: 5 p.m. ET 1/8/13.

Docket Numbers: RP12-308-000.

Applicants: Golden Pass Pipeline LLC.

Description: Annual Report of Penalty Revenue and Costs of Golden Pass to be effective N/A.

Filed Date: 12/13/12.

Accession Number: 20121213-5086.

Comments Due: 5 p.m. ET 12/28/12.

Docket Numbers: RP13-385-000.

Applicants: Gulf South Pipeline Company, LP.

Description: Amendment to Neg Rate Agmt (Sequent 34693-13) to be effective 12/18/2012.

Filed Date: 12/13/12.

Accession Number: 20121213-5027.

Comments Due: 5 p.m. ET 12/28/12.

Docket Numbers: RP13-386-000.

Applicants: Texas Eastern Transmission, LP.

Description: Termination of KGen Hinds Non-Conforming Agreement to be effective 12/13/2012.

Filed Date: 12/13/12.

Accession Number: 20121213-5103.

Comments Due: 5 p.m. ET 12/28/12.

Docket Numbers: RP13-387-000.

Applicants: Ozark Gas Transmission, L.L.C.

Description: KGen-Entergy Arkansas Permanent Release to be effective 12/13/2012.

Filed Date: 12/13/12.

Accession Number: 20121213-5134.

Comments Due: 5 p.m. ET 12/28/12.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP12-1065-001.

Applicants: Steckman Ridge, LP.

Description: RP12-1065-000 Compliance Filing to be effective 3/1/2013.

Filed Date: 12/13/12.

Accession Number: 20121213-5039.

Comments Due: 5 p.m. ET 12/28/12.

Docket Numbers: RP12-1086-001.

Applicants: Pine Needle LNG Company, LLC.

Description: Pine Needle Order No. 587-V (NAESB 2.0) Second Compliance to be effective 12/1/2012.

Filed Date: 12/13/12.

Accession Number: 20121213-5070.

Comments Due: 5 p.m. ET 12/28/12.

Docket Numbers: RP12-1094-001.

Applicants: Bobcat Gas Storage.

Description: RP12-1094-000 Compliance Filing to be effective 3/1/2013.

Filed Date: 12/13/12.

Accession Number: 20121213-5036.

Comments Due: 5 p.m. ET 12/28/12.

Docket Numbers: RP12-1096-001.

Applicants: Egan Hub Storage, LLC.

Description: RP12-1096-000 Compliance Filing to be effective 3/1/2013.

Filed Date: 12/13/12.

Accession Number: 20121213-5037.

Comments Due: 5 p.m. ET 12/28/12.

Docket Numbers: RP12-1099-001.

Applicants: Saltville Gas Storage Company L.L.C.

Description: Filed Date: 12/13/2012.

Accession Number: 20121213-5038.

Comments Due: 5 p.m. ET 12/28/12.

Docket Numbers: RP13-1-001.

Applicants: KO Transmission Company.

Description: Compliance Filing in Docket No. RP13-1 to be effective 12/1/2012.

Filed Date: 12/13/12.

Accession Number: 20121213-5019.

Comments Due: 5 p.m. ET 12/28/12.

Docket Numbers: RP13-106-001.

Applicants: Young Gas Storage Company, Ltd.

Description: Young NAESB 2.0 Compliance Filing to be effective 12/1/2012.

Filed Date: 12/13/12.

Accession Number: 20121213-5104.

Comments Due: 5 p.m. ET 12/28/12.

Docket Numbers: RP13-60-002.

Applicants: Tennessee Gas Pipeline Company, L.L.C.

Description: NAESB V2.0 Compliance 12-13-12 to be effective 12/1/2012.

Filed Date: 12/13/12.

Accession Number: 20121213-5069.

Comments Due: 5 p.m. ET 12/28/12.

Docket Numbers: RP13-81-002.

Applicants: Caledonia Energy Partners, L.L.C.

Description: Correction to FERC Gas Tariff to Comply with FERC Order No. 587-V to be effective 12/1/2012.

Filed Date: 12/13/12.

Accession Number: 20121213-5133.

Comments Due: 5 p.m. ET 12/28/12.

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, and service can be found at: http://www.ferc.gov/docs-filing/efiling/filing-req.pdf. For other information, call (866) 208-3676 (toll free). For TTY, call (202) 502-8659.

Dated: December 27, 2012.
Nathaniel J. Davis, Sr.,
Deputy Secretary.

[FR Doc. 2012-31612 Filed 1-2-13; 8:45 am]

BILLING CODE 6717-01-P